DEPARTMENT OF ENERGY

Federal Energy Regulatory Commission

Combined Notice of Filings #1

Monday, January 10, 2011.

Take notice that the Commission received the following electric corporate filings:

Docket Numbers: EC11-35-000

Applicants: NStar, Northeast Utilities.

Description: Application for Authorization of Disposition of Jurisdictional Assets and Merger of NSTAR and Northeast Utilities.

Filed Date: 01/07/2011.

Accession Number: 20110107-5284.

Comment Date: 5 p.m. Eastern Time on Monday, February 7, 2011.

Take notice that the Commission received the following exempt wholesale generator filings:

Docket Numbers: EG11-43-000.

Applicants: LSP Energy, Inc.

Description: Notice of Self-Certifiation of EWG Status of LSP Energy, Inc.

Filed Date: 01/07/2011.

Accession Number: 20110107-5128.

Comment Date: 5 p.m. Eastern Time on Friday, January 28, 2011.

Docket Numbers: EG11-44-000.

Applicants: Milford Wind Corridor Phase II, LLC.

Description: Notice of Self-Certification of Milford Wind Corridor Phase II, LLC as an Exempt Wholesale Generator.

Filed Date: 01/07/2011.

Accession Number: 20110107-5266.

Comment Date: 5 p.m. Eastern Time on Friday, January 28, 2011.

Take notice that the Commission received the following electric rate filings:

Docket Numbers: ER03-721-015.

Applicants: New Harquahala Generating Company, LLC.

Description: Supplement to Updated Market Power Analysis for New Harquahala Generating Company, LLC.

Filed Date: 01/07/2011.

Accession Number: 20110107-5282.

Comment Date: 5 p.m. Eastern Time on Friday, January 28, 2011.

Docket Numbers: ER04-925-023; ER04-925-024.

Applicants: Merrill Lynch Commodities, Inc.

Description: Merrill Lynch Commodities, Inc. submits Notice of Nonmaterial Change in Status and Supplemental Information.

Filed Date: 01/07/2011.

Accession Number: 20110107-5283.

Comment Date: 5 p.m. Eastern Time on Friday, January 28, 2011.

Docket Numbers: ER11-67-001.

Applicants: Beacon Power Corporation.

Description: Beacon Power Corporation submits tariff filing per 35: Stephentown FERC Electric MBR Tariff to be effective 12/14/2010.

Filed Date: 12/20/2010.

Accession Number: 20101220-5000.

Comment Date: 5 p.m. Eastern Time on Monday, January 10, 2011.

Docket Numbers: ER11-1878-001.

Applicants: Westar Energy, Inc.

Description: Westar Energy, Inc. submits tariff filing per 35: Compliance Filing, Nebraska Public Power District Interconnection & Interchange to be effective N/A.

Filed Date: 01/07/2011.

Accession Number: 20110107-5229.

Comment Date: 5 p.m. Eastern Time on Friday, January 28, 2011.

Docket Numbers: ER11-2048-002.

Applicants: New York Independent System Operator, Inc.

Description: New York Independent System Operator, Inc. submits tariff filing per 35: Compliance Filing to Update Filing Type Code and Record Effective Priority Order to be effective 4/1/2011.

Filed Date: 01/07/2011.

Accession Number: 20110107-5103.

Comment Date: 5 p.m. Eastern Time on Friday, January 28, 2011.

Docket Numbers: ER11-2084-001.

Applicants: Midwest Independent Transmission System Operator, Inc.

Description: Midwest Independent Transmission System Operator, Inc. submits tariff filing per 35.17(b): Module B Facilities Study Procedures Errata to be effective 1/12/2011.

Filed Date: 12/02/2010.

Accession Number: 20101202-5093.

Comment Date: 5 p.m. Eastern Time on Thursday, January 20, 2011.

Docket Numbers: ER11-2145-001.

Applicants: Southern California Edison Company.

Description: Southern California Edison Company submits tariff filing per 35.17(b): Amend SGIA 9415 Kaiser Way Fontana CA 92335 Solar Project SA 287 to be effective 11/19/2010.

Filed Date: 01/07/2011.

Accession Number: 20110107-5076.

Comment Date: 5 p.m. Eastern Time on Friday, January 28, 2011.

Docket Numbers: ER11-2192-001.

Applicants: Red Mesa Wind, LLC.

Description: Red Mesa Wind, LLC submits tariff filing per 35.17(b): Red Mesa Revisions to Tariff Language to be effective 11/25/2010.

Filed Date: 01/07/2011.

Accession Number: 20110107-5000.

Comment Date: 5 p.m. Eastern Time on Friday, January 28, 2011.

Docket Numbers: ER11-2400-001.

Applicants: ISO New England Inc.

Description: ISO New England Inc. submits tariff filing per 35.17(b): Errata to XML Metadata: Proposed Effective Date ER11-2400, to be effective 3/1/2011.

Filed Date: 01/07/2011.

Accession Number: 20110107-5157.

Comment Date: 5 p.m. Eastern Time on Friday, January 28, 2011.

Docket Numbers: ER11-2646-000.

Applicants: Westar Energy, Inc.

Description: Westar Energy, Inc. submits tariff filing per 35: Schedule 3A, Generator Regulation & Frequency Response Svc to be effective 8/31/2010.

Filed Date: 01/07/2011.

Accession Number: 20110107-5071.

Comment Date: 5 p.m. Eastern Time on Friday, January 28, 2011.

Docket Numbers: ER11-2647-000.

Applicants: Carolina Power & Light Company.

Description: Cancellation of NITSA with Piedmont EMC by Carolina Power & Light Company.

Filed Date: 01/07/2011.

Accession Number: 20110107-5075.

Comment Date: 5 p.m. Eastern Time on Friday, January 28, 2011.

Docket Numbers: ER11-2648-000.

Applicants: PJM Interconnection, L.L.C.

Description: PJM Interconnection, L.L.C. submits tariff filing per 35.13(a)(2)(iii): Service Agreement Deadline after System Impact Study re Tariff Section 205.4.1 to be effective 3/9/2011.

Filed Date: 01/07/2011.

Accession Number: 20110107-5106.

Comment Date: 5 p.m. Eastern Time on Friday, January 28, 2011.

Docket Numbers: ER11-2649-000.

Applicants: 3C Solar LLC.

Description: 3C Solar LLC submits tariff filing per 35.12: 3C Solar LLC MBR Tariff to be effective 3/8/2011.

Filed Date: 01/07/2011.

Accession Number: 20110107-5136.

Comment Date: 5 p.m. Eastern Time on Friday, January 28, 2011.

Docket Numbers: ER11-2650-000.

Applicants: PJM Interconnection, L.L.C.

Description: PJM Interconnection, L.L.C. submits tariff filing per 35.13(a)(2)(iii): Compressed Air Energy Storage Station Power Definition Revision, to be effective 3/9/2011.

Filed Date: 01/07/2011.

Accession Number: 20110107-5156.

Comment Date: 5 p.m. Eastern Time on Friday, January 28, 2011.

Docket Numbers: ER11-2651-000.

Applicants: Mid-Continent Area Power Pool.

Description: Mid-Continent Area Power Pool submits a Notice of Cancellation of their Schedule F, FERC Electric Tariff, First Revised Volume 1.

Filed Date: 01/06/2011.

Accession Number: 20110107-0201.

Comment Date: 5 p.m. Eastern Time on Thursday, January 27, 2011.

Docket Numbers: ER11-2652-000.

Applicants: PacifiCorp.

Description: PacifiCorp submits tariff filing per 35.13(a)(2)(iii): Top of the World Facilities Maintenance Agreement to be effective 12/8/2010.

Filed Date: 01/07/2011.

Accession Number: 20110107-5182.

Comment Date: 5 p.m. Eastern Time on Friday, January 28, 2011.

Docket Numbers: ER11-2653-000.

Applicants: Mid-Continent Area Power Pool.

Description: Mid-Continent Area Power Pool submits a Notice of Cancellation of their rate schedule designations for their restated agreement, FERC Electric Tariff, First Revised Volume 2 to be effective 4/1/11.

Filed Date: 01/06/2011.

Accession Number: 20110107-0202.

Comment Date: 5 p.m. Eastern Time on Thursday, January 27, 2011.

Docket Numbers: ER11-2654-000.

Applicants: New York Independent System Operator, Inc.

Description: New York Independent System Operator, Inc. submits tariff filing per 35.13(a)(2)(iii): 205 Filing of LGIA Among NYISO, NYPA and Astoria Energy II to be effective 12/20/2010.

Filed Date: 01/07/2011.

Accession Number: 20110107-5224.

Comment Date: 5 p.m. Eastern Time on Friday, January 28, 2011.

Docket Numbers: ER11-2655-000.

Applicants: Southwest Power Pool, Inc.

Description: Southwest Power Pool, Inc. submits tariff filing per 35.13(a)(2)(iii): 1517R4 DWS Frisco, LLC SGIA to be effective 12/8/2010.

Filed Date: 01/07/2011.

Accession Number: 20110107-5239.

Comment Date: 5 p.m. Eastern Time on Friday, January 28, 2011.

Docket Numbers: ER11-2656-000.

Applicants: Black Hills Power, Inc.

Description: Black Hills Power, Inc. submits tariff filing per 35.13(a)(2)(iii): Spinning Reserve Service Agreement to be effective 1/10/2011.

Filed Date: 01/07/2011.

Accession Number: 20110107-5269.

Comment Date: 5 p.m. Eastern Time on Friday, January 28, 2011.

Docket Numbers: ER11-2657-000.

Applicants: Milford Wind Corridor Phase II, LLC.

Description: Milford Wind Corridor Phase II, LLC submits tariff filing per 35.12: Application for Order Accepting Market-Based Rate Tariff to be effective 1/18/2011.

Filed Date: 01/07/2011.

Accession Number: 20110107-5275.

Comment Date: 5 p.m. Eastern Time on Friday, January 28, 2011.

Take notice that the Commission received the following electric securities filings:

Docket Numbers: ES11-12-000.

Applicants: PJM Interconnection L.L.C.

Description: Amendment to Application of PJM Interconnection L.L.C.Y

Filed Date: 01/07/2011

Accession Number: 20110107-5230

Comment Date: 5 p.m. Eastern Time on Tuesday, January 18, 2011.

Take notice that the Commission received the following foreign utility company status filings:

Docket Numbers: FC11-3-000

Applicants: Mount Miller Wind Energy Limited Partner

Description: Mount Miller Wind Energy Limited Partnership Notification of Self-Certification of Foreign Utility Company Status.

Filed Date: 01/07/2011

Accession Number: 20110107-5155

Comment Date: 5 p.m. Eastern Time on Friday, January 28, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2011-1100 Filed 1-19-11; 8:45 am]

BILLING CODE 6717-01-P